DEPARTMENT OF LABOR

Employment and Training Administration

[TA-W-38,642]

Global Tex LLC Doing Business as Bates of Maine Lewiston, ME; Notice of Revised Determination on Reconsideration

On July 20, 2001, the Department issued a notice of affirmative determination regarding application for reconsideration of the denial of trade adjustment assistance for workers of the subject firm. The notice was published in the Federal Register on August 15, 2001 (66 FR 42883).

The workers of Global Tex LLC, doing business as Bates of Maine, Lewiston, Maine, were engaged in employment related to the production of cotton blankets, throws and bedspreads. The petition was initially denied because the “contributed importantly” criterion of the Trade Act of 1974, as amended, was not met.

The production of bedspreads at Lewiston, Maine, accounted for the majority of output at the plant. The company provided revised information on their imports of bedspreads which shows that the company did not purchase imports in 1999. The company increased import purchases of bedspreads in 2000.

Examination of aggregate U.S. imports for consumption shows that from 1999 to 2000, imports of bedspreads of textile materials, not knitted or crocheted, increased in quantity and value.

Conclusion

After careful consideration of the new facts obtained on reconsideration, it is concluded that increased imports of articles like or directly competitive with bedspreads produced by the subject firm contributed importantly to the decline in sales or production and to the total or partial separation of workers of that firm. In accordance with the provisions of the Trade Act of 1974, I make the following revised determination:

“All workers of Global Tex LLC, doing business as Bates of Maine, Lewiston, Maine, who become totally or partially separated from employment on or after January 23, 2000, through two years from the date of this issuance, are eligible to apply for adjustment assistance under Section 223 of the Trade Act of 1974.

Signed at Washington, DC this 18th day of September 2001.
Edward A. Tomchick,
Director, Division of Trade Adjustment Assistance.

[FR Doc. 01-24816 Filed 10-3-01; 8:45 am]

BILLING CODE 4510-30-M